SUSQUEHANNA RIVER BASIN COMMISSION

Public Hearing

AGENCY: Susquehanna River Basin Commission.

ACTION: Notice.

SUMMARY: The Susquehanna River Basin Commission will hold a public hearing on January 29, 2015, in Harrisburg, Pennsylvania. At this public hearing, the Commission will hear testimony on the projects listed in the Supplementary Information section of this notice. Such projects are intended to be scheduled for Commission action at its next business meeting, tentatively scheduled for March 5, 2015, which will be noticed separately. The public should take note that this public hearing will be the only opportunity to offer oral comment to the Commission for the listed projects. The deadline for the submission of written comments is February 9, 2015.

DATES: The public hearing will convene on January 29, 2015, at 2:30 p.m. The public hearing will end at 5:00 p.m. or at the conclusion of public testimony, whichever is sooner. The deadline for the submission of written comments is February 9, 2015.

ADDRESSES: The public hearing will be conducted at the Pennsylvania State Capitol, Room 8E-B, East Wing, Commonwealth Avenue, Harrisburg, Pa.

FOR FURTHER INFORMATION CONTACT: Jason Oyler, Regulatory Counsel, telephone: (717) 238-0423, ext. 1312; fax: (717) 238-2436.

Information concerning the applications for these projects is available at the SRBC Water Resource Portal at www.srbc.net/wrp. Materials and supporting documents are available to inspect and copy in accordance with the Commission's Access to Records Policy at www.srbc.net/pubinfo/docs/2009-02_Access_to_Records_Policy_20140115.pdf.

SUPPLEMENTARY INFORMATION: The public hearing will cover the following projects:

Projects Scheduled for Action

1. Project Sponsor and Facility: Leonard and Jean Marie Azaravich (Meshoppen Creek), Springville Township, Susquehanna County, Pa. Application for renewal and modification to increase surface water withdrawal by an additional 0.251 mgd (peak day), for a total of up to 0.500 mgd (peak day) (Docket No. 20101206).

2. Project Sponsor and Facility: Carrizo (Marcellus), LLC (Mosquito Creek), Karthaus Township, Clearfield County, Pa. Application for surface water withdrawal of up to 0.720 mgd (peak day).

3. Project Sponsor and Facility: Chesapeake Appalachia, LLC (Susquehanna River), Braintrim Township, Wyoming County, Pa. Application for renewal of surface water withdrawal of up to 3.000 mgd (peak day) (Docket No. 20110303).

4. Project Sponsor and Facility: Chief Oil & Gas LLC (Martins Creek), Hop Bottom Borough, Susquehanna County, Pa. Application for renewal of surface water withdrawal of up to 0.360 mgd (peak day) (Docket No. 20110304).

5. Project Sponsor and Facility: EQT Production Company (West Branch Susquehanna River), Greenwood Township, Clearfield County, Pa. Application for surface water withdrawal of up to 0.900 mgd (peak day).

6. Project Sponsor and Facility: Keister Miller Investments, LLC (West Branch Susquehanna River), Mahaffey Borough, Clearfield County, Pa. Application for surface water withdrawal of up to 2.000 mgd (peak day).

7. Project Sponsor and Facility: Keystone Clearwater Solutions, LLC (West Branch Susquehanna River), Curwensville Borough, Clearfield County, Pa. Application for renewal of surface water withdrawal reduced from originally approved 2.000 mgd (peak day) to up to 1.500 mgd (peak day) (Docket No. 20101204).

8. Project Sponsor and Facility: Linde Corporation (Lackawanna River), Fell Township, Lackawanna County, Pa. Application for renewal of surface water withdrawal of up to 0.905 mgd (peak day) (Docket No. 20101207).

9. Project Sponsor and Facility: Samson Exploration, LLC (Plum Grove Cameron 5 Strip Mine Pond), Shippen Township, Cameron County, Pa. Application for renewal of surface water withdrawal of up to 0.090 mgd (peak day) (Docket No. 20110308).

10. Project Sponsor and Facility: Shadow Ranch Resort, Inc. (Tunkhannock Creek), Tunkhannock Township, Wyoming County, Pa. Application for renewal of surface water withdrawal of up to 0.999 mgd (peak day) (Docket No. 20110310).

11. Project Sponsor and Facility: Shrewsbury Borough, York County, Pa. Application for renewal and modification to increase groundwater withdrawal by an additional 0.024 mgd (30-day average), for a total of up to 0.089 mgd (30-day average) from the Blouse Well (Docket No. 19820103).

12. Project Sponsor and Facility: Shrewsbury Borough, York County, Pa. Application for renewal of groundwater withdrawal of up to 0.099 mgd (30-day average) from the Smith Well (Docket No. 19811203).

13. Project Sponsor and Facility: Southwestern Energy Production Company (Martins Creek), Brooklyn and Harford Townships, Susquehanna County, Pa. Application for renewal of surface water withdrawal of up to 0.997 mgd (peak day) (Docket No. 20110312).

14. Project Sponsor and Facility: SWEPI LP (Cowanesque River), Westfield Township, Tioga County, Pa. Application for renewal of surface water withdrawal of up to 0.375 mgd (peak day) (Docket No. 20101203).

15. Project Sponsor and Facility: Warwick Township Municipal Authority, Warwick Township, Lancaster County, Pa. Application for groundwater withdrawal of up to 0.288 mgd (30-day average) from Rothsville Well 2.

Opportunity To Appear and Comment

Interested parties may appear at the hearing to offer comments to the Commission on any project listed above. The presiding officer reserves the right to limit oral statements in the interest of time and to otherwise control the course of the hearing. Ground rules will be posted on the Commission's Web site, www.srbc.net, prior to the hearing for review. The presiding officer reserves the right to modify or supplement such rules at the hearing. Written comments on any project listed above may also be mailed to Mr. Jason Oyler, Regulatory Counsel, Susquehanna River Basin Commission, 4423 North Front Street, Harrisburg, Pa. 17110-1788, or submitted electronically through http://www.srbc.net/pubinfo/publicparticipation.htm. Comments mailed or electronically submitted must be received by the Commission on or before February 9, 2015, to be considered.

Authority: Pub. L. 91-575, 84 Stat. 1509 et seq., 18 CFR parts 806, 807, and 808.

Dated: December 23, 2014.
Stephanie L. Richardson,
Secretary to the Commission.

[FR Doc. 2014-30743 Filed 12-31-14; 8:45 am]

BILLING CODE 7040-01-P